ENVIRONMENTAL PROTECTION AGENCY

[FRL-10515-01-OA]

Notification of Request for Nominations to the National Environmental Justice Advisory Council

AGENCY: Environmental Protection Agency (EPA).

ACTION: Request for nominations to the National Environmental Justice Advisory Council (NEJAC).

SUMMARY: The U.S. Environmental Protection Agency (EPA) invites nominations from a diverse range of qualified candidates to be considered for appointment to its National Environmental Justice Advisory Council (NEJAC). The NEJAC was chartered to provide advice regarding broad, cross-cutting issues related to environmental justice. This notice solicits nominations to fill approximately ten (10) new vacancies for terms through September 2024. To maintain the representation outlined by the charter, nominees will be selected to represent: academia, business and industry; community-based; non-governmental organizations; state and local governments; and tribal governments and indigenous organizations. We are interested in adding members located in in all EPA regions. Vacancies are anticipated to be filled by September 2023. Sources in addition to this Federal Register Notice will be utilized in the solicitation of nominees.

DATES: Nominations should be submitted in time to arrive no later than Friday, March 17, 2023.

ADDRESSES: Submit nominations electronically with the subject line NEJAC Membership 2023 to nejac@epa.gov. The Office of Environmental Justice and External Civil Rights will acknowledge receipt of nominations.

FOR FURTHER INFORMATION CONTACT: Paula Flores Gregg, NEJAC Designated Federal Officer, U.S. EPA; email: nejac@epa.gov; telephone: (214) 665-8123.

SUPPLEMENTARY INFORMATION: The NEJAC is a Federal advisory committee chartered under the Federal Advisory Committee Act (FACA), Public Law 92-463. EPA established the NEJAC in 1993 to provide independent consensus advice to the EPA Administrator about a broad range of environmental issues related to environmental justice. The NEJAC conducts business in accordance with the Federal Advisory Committee Act (FACA) (5 U.S.C. App. 2) and related regulations. In accordance with Executive Order 14035, EPA values and welcomes opportunities to increase diversity, equity, inclusion, and accessibility on its Federal advisory committees. EPA's Federal advisory committees have a workforce that reflects the diversity of the American people.

The Council consists of 32 members (including two Co-Chairpersons and two Vice-Chairpersons) appointed by EPA's Administrator. Members serve as non-Federal stakeholders who represent academia, business and industry; community-based organizations; non-governmental/environmental organizations; state and local governments; tribal governments and indigenous organizations, of which one member serves as a liaison to the National Tribal Caucus. Members are appointed for one (1); two (2) or three (3)-year terms with the possibility of reappointment for another term.

The NEJAC usually convenes 4 to 6 times a year, generally meeting face-to-face twice (2) a year in the Spring and the Fall and virtually for the remaining meetings. Additionally, members will be asked to participate in work groups to develop recommendations, advice letters, and reports to address specific policy issues. The average workload for members is approximately 20 to 25 hours per month, not including public meeting hours and with the expectation that the member will take part in two (2) or more workgroup activities. EPA provides reimbursement for travel and other incidental expenses associated with official Government business.

Nominations: Any interested person and/or organization may nominate qualified individuals for membership. Individuals are encouraged to self-nominate. The EPA values and welcomes opportunities to increase diversity, equity, inclusion and accessibility on its Federal advisory committees and is seeking to obtain nominations from all geographic locations of the United States of America. All nominations will be fully considered, but applicants need to be aware of the specific representation sought as outlined in the summary above. In addition, EPA is seeking nominees with knowledge in youth led or youth focused environmental organization; environmental measures; public health/health disparities; water infrastructure and other water concerns; farmworkers and pesticides; community sustainability and resiliency; green jobs and green infrastructure; land use and equitable development; and emerging inclusion of sub-populations such as the unhoused individuals, veterans, individuals in the criminal justice system, etc. Other criteria used to evaluate nominees will include:

• the background and experience that would help members contribute to the diversity of perspectives on the committee (e.g., geographic, economic, social, cultural, educational background, professional affiliations, and other considerations),

• demonstrated experience with environmental justice and community sustainability issues at the national, state, or local level,

• excellent interpersonal and consensus-building skills,

• ability to volunteer time to attend meetings 4-6 times a year, participate in virtual and in-person meetings, volunteer time to take part in two (2) or more workgroup activities, attend listening sessions with the Administrator or other senior-level officials, develop policy recommendations to the Administrator, and prepare reports and advice letters, and

• willingness to commit time to the committee and demonstrated ability to work constructively and effectively on committees. The average workload for members is approximately 20 to 25 hours per month, not including public meeting hours and with the expectation that the member will take part in two (2) or more workgroup activities.

How to Submit Nominations: Any interested person or organization may nominate qualified persons to be considered for appointment to this advisory committee. Individuals are encouraged to self-nominate. Nominations will be submitted in electronic format following the template available at https://www.epa.gov/environmentaljustice/nominations-nejac. To be considered, all nominations should include:

• Current contact information for the nominee/applicant, including the nominee's/applicant's name, organization (and position within that organization), current business address, email address, telephone numbers and the stakeholder category position you are interested in.

• Brief Statement describing the nominee's/applicant's interest in serving on the NEJAC.

• Résumé and a short biography describing the professional and educational qualifications of the nominee, including a list of relevant activities, and any current or previous service on advisory committees.

• Brief statements describing experience as it relates to engaging affected communities, understanding environmental justice/relevant issues, consensus building, communication skills and availability.

• Letter[s] of recommendation from a third party supporting the nomination. Letter[s] should describe how the nominee's experience and knowledge will bring value to the work of the NEJAC.

Dated: December 20, 2022.
Matthew Tejada,
Deputy Assistant Administrator for Office of Environmental Justice and External Civil Rights.

[FR Doc. 2022-28078 Filed 12-23-22; 8:45 am]

BILLING CODE 6560-50-P